DEPARTMENT OF COMMERCE

National Institute of Standards and Technology

National Conference on Weights and Measures Interim Meeting

AGENCY: National Institute of Standards and Technology, Commerce.

ACTION: Notice.

SUMMARY: The Interim Meeting of the National Conference on Weights and Measures (NCWM) will be held in Charleston, South Carolina, from Sunday, January 13, 2019, through Wednesday, January 16, 2019. This notice contains information about significant items on the NCWM Committee agendas but does not include all agenda items. As a result, the items are not consecutively numbered.

DATES: The meeting will be held from Sunday, January 13, 2019, through Wednesday, January 16, 2019, on Sunday through Tuesday, from 8:00 a.m. to 5:00 p.m. Eastern Time, and on Wednesday, from 9:00 a.m. to 12:00 p.m. Eastern Time. The meeting schedule is available at www.ncwm.net.

ADDRESSES: This meeting will be held at the Francis Marion Hotel, 387 King Street, Charleston, South Carolina 29403.

FOR FURTHER INFORMATION CONTACT: Dr. Douglas Olson, NIST, Office of Weights and Measures, 100 Bureau Drive, Stop 2600, Gaithersburg, MD 20899-2600. You may also contact Dr. Olson at (301) 975-2956 or by email at douglas.olson@nist.gov. The meeting is open to the public, but a paid registration is required. Please see the NCWM website (www.ncwm.net) to view the meeting agendas, registration forms, and hotel reservation information.

SUPPLEMENTARY INFORMATION: Publication of this notice on the NCWM's behalf is undertaken as a public service; NIST does not endorse, approve, or recommend any of the proposals or other information contained in this notice or in the publications produced by the NCWM.

The NCWM is an organization of weights and measures officials of the states, counties, and cities of the United States, and representatives from the private sector and federal agencies. These meetings bring together government officials and representatives of business, industry, trade associations, and consumer organizations on subjects related to the field of weights and measures technology, administration, and enforcement. NIST participates to encourage cooperation between federal agencies and the states in the development of legal metrology requirements. NIST also promotes uniformity in state laws, regulations, and testing procedures used in the regulatory control of commercial weighing and measuring devices, packaged goods, and for other trade and commerce issues.

The NCWM has established multiple committees, task groups, and other working bodies to address legal metrology issues of interest to regulatory officials, industry, consumers, and others. The following are brief descriptions of some of the significant agenda items that will be considered by some of the NCWM Committees at the NCWM Interim Meeting. Comments will be taken on these and other issues during several public comment sessions. At this stage, the items are proposals. This meeting also includes work sessions in which the Committees may also accept comments, and where recommendations will be developed for consideration and possible adoption at the NCWM 2019 Annual Meeting. The Committees may withdraw or carryover items that need additional development.

These notices are intended to make interested parties aware of these development projects and to make them aware that reports on the status of the project will be given at the Interim Meeting. The notices are also presented to invite the participation of manufacturers, experts, consumers, users, and others who may be interested in these efforts.

The Specifications and Tolerances Committee (S&T Committee) will consider proposed amendments to NIST Handbook 44, “Specifications, Tolerances, and other Technical Requirements for Weighing and Measuring Devices.” Those items address weighing and measuring devices used in commercial applications, that is, devices that are used to buy from or sell to the public or used for determining the quantity of products or services sold among businesses. Issues on the agenda of the NCWM Laws and Regulations Committee (L&R Committee) relate to proposals to amend NIST Handbook 130, “Uniform Laws and Regulations in the area of Legal Metrology and Engine Fuel Quality” and NIST Handbook 133, “Checking the Net Contents of Packaged Goods.”

NCWM S&T Committee

The following items are proposals to amend NIST Handbook 44:

GEN—General Code

Item GEN-3 G-A.1. Commercial and Law-Enforcement Equipment and G-S.2. Facilitation of Fraud

The S&T Committee will consider a proposal that would expand the application of NIST Handbook 44 to include accessory equipment (e.g., credit/debit card “skimmers) that can be used to defraud or collect unauthorized personal or financial information from a user when that accessory equipment is used in connection with a commercial weighing or measuring device. The proposal would also expand paragraph G-S.2. Facilitation of Fraud by requiring credit/debit card readers and other devices capable of customer initiated electronic financial transactions used in conjunction with weighing and measuring equipment to: (1) Be designed and constructed to restrict access and tampering by unauthorized persons; and (2) include an event counter that records the date and time of access.

In 2018 the S&T Committee assigned this item to a NCWM Task Group for further development. The Task Group is expected to provide an update on its development of this item at the 2019 NCWM Interim Meeting.

SCL—Scales

Item SCL-2 S.1.8.5. Recorded Representations, Point of Sale Systems

The S&T Committee will consider a proposal requiring additional sales information to be recorded by cash registers interfaced with a weighing element for items that are weighed at a checkout stand. These systems are currently required to record the net weight, unit price, total price, and the product class, or in a system equipped with price look-up capability, the product name or code number. The change proposed would add “tare weight” to the list of sales information currently required. This change has been proposed as a nonretroactive requirement with an enforcement date of January 1, 2022. If the proposal is adopted, the additional information (i.e., the tare weight) would be required to appear on the sales receipt for items weighed at a checkout stand (Point of Sale Systems) on equipment installed into commercial service as of January 1, 2022. This proposed change would not affect equipment already in service. The further development of this item was assigned to an NCWM Task Group in 2018 at the request of the S&T Committee. The Task Group is expected to provide an update on its development of this item at the 2019 NCWM Interim Meeting.

SCL-3 Sections Throughout the Code To Include Provisions for Commercial Weigh-In-Motion (WIM) Vehicle Scale Systems

The S&T Committee will consider a proposal to amend various sections of NIST Handbook 44, Scales Code to address WIM vehicle scale systems used for commercial applications. This “Carry-Over” item has appeared on the S&T Committee's agenda since 2016. An NCWM Task Group (TG) was formed in 2016 at the request of the S&T Committee to consider a proposal that would expand the NIST Handbook 44, Weigh-In-Motion Systems Used for Vehicle Enforcement Screening—Tentative Code to also apply to legal-for-trade (commercial) and law enforcement applications. The TG, that is still active today, is made up of representatives of WIM equipment manufacturers, NIST Office of Weights and Measures, state weights and measures agencies, and others. Members of the TG agreed in 2016 to eliminate from the proposal any mention of a law enforcement application and focus solely on WIM vehicle scale systems intended for use in commercial applications. Members of the TG later agreed that commercial application of WIM vehicle scale systems should be addressed by the Scales Code of NIST Handbook 44, rather than the Weigh-In-Motion Systems Used for Vehicle Enforcement Screening—Tentative Code. Recent activity by the TG has focused on providing evidence supporting the claims of WIM scale manufacturers regarding the performance capabilities of these devices. The TG has requested this evidence to indicate whether devices being manufactured at this time can comply with commercial device tolerance applied to comparable static weighing devices. The submitter of this proposal (a WIM manufacturer) has initiated a process where preliminary testing can be done to provide the TG with data to substantiate the claims regarding device performance.

An additional focus of the TG, since its formation in 2016, has been to concentrate on the development of official test procedures that can be used to verify the accuracy of a WIM vehicle scale system given the different axle and tandem axle configurations of vehicles that will typically be weighed by a system and a proposed maintenance and acceptance tolerance of 0.2 percent on gross (total) vehicle weight. The TG is expected to provide an update on its development of this item at the 2019 NCWM Interim Meeting.

Item SCL-6 UR.3.11. Class II Scales

The S&T Committee will consider a proposal to add a new paragraph to the Scales Code of NIST Handbook 44 requiring users of Accuracy Class II scales equipped with a different verification scale division value (e) than the displayed division value (d) to base all commercial transactions on the verification scale division (e). When these two scale divisions (identified as “e” and “d”) are different, a difference in scale's resolution is established. The variation in scale divisions within a scale's capacity range will produce either a reduced, or a greater resolution in the representation of values for loads applied to the scale. According to NIST Handbook 44, when these division values aren't equal on Class II scales, the value of “e” is required to be larger than the value of “d.” This proposal will require that all commercial transactions conducted using Class II scales will be based on “e” (the larger of the two divisions).

Item SCL-7 T.N.3.6. Coupled-In-Motion Railroad Weighing Systems; T.N.4.6. Time Dependence (Creep) for Load Cells During Type Evaluation; UR.5. Coupled-In-Motion Railroad Weighing Systems; and Appendix D—Definitions: Point-Based Railroad Weighing Systems

The S&T Committee will consider a new proposal (which replaces one from the same submitter that appeared on the Committee's agenda in 2018) to amend the Scales Code of NIST Handbook 44 to allow for the use of point-based, in-motion railroad weighing systems in commercial applications. The current proposal has eliminated many of the changes proposed in the previous proposal but has retained recommended changes listed below.

—Increase the tolerance allowed during official testing of these types of commercial devices used for dynamic weighments of unit trains.

—Provide an exemption for “point-based” in-motion railroad weighing systems from the performance of “creep tests” during official evaluations.

—Require the user of dynamic weighing systems for railway cars to provide a suitable static weighing scale, located in close proximity to the dynamic system to use as a reference scale during dynamic scale testing.

Provide a definition for “point-based” railroad weighing systems.

BCS—Belt-Conveyor Scales

Item BCS-1 S.1.3. Value of the Scale Division; S.1.9. Zero-Ready Indicator; S.4. Accuracy Class; S.5. Marking Requirements; N.1. General; N.2. Conditions of Test; T.1. Tolerance Values; T.2. Tolerance Values; and UR.3. Maintenance Requirements—Scale and Conveyor Maintenance

The S&T Committee will consider a proposal amending the Belt-Conveyor Scale Systems Code of NIST Handbook 44 in multiple sections of the code. This proposal has been submitted by the U.S. National Work Group on Belt-Conveyor Scales and recommends several changes to the existing code. Many of the recommended changes are intended to clarify the application of tolerances to material tests that are either performed under the same or under varying conditions. These changes specify that a less stringent application of tolerances is to be used when comparing results of totalization operations that are performed under different flow rates of material. Additional recommended changes would establish two different accuracy classes for these systems. In addition to the currently recognized systems, an accuracy class would be added to the code to encompass systems capable of complying with more stringent performance requirements (tolerance of 0.1%) as compared to the existing tolerance (0.25%).

ABW—Automatic Bulk Weighing Systems

Item ABW-3 A. Application; S. Specifications; N. Notes; UR. User Requirements; and Appendix D—Definitions: Automatic Bulk Weighing System

The S&T Committee will consider a proposal to amend the Automatic Bulk Weighing Systems Code that would broaden the scope of the code to encompass additional automated weighing systems. This proposal would eliminate language in the Application Section of the code that currently constrains the code's use to automatic weighing systems that operate only as specified. The proposal would also amend the definition of “automatic bulk weighing system” in Appendix D of NIST Handbook 44 by broadening its application to encompass additional automatic weighing systems that do not meet the current definition. Additionally, the proposal would update the code in recognition of more recent designs and technology that has evolved and is being used in automated weighing systems.

LMD—Liquid Measuring Devices

Item LMD-5 UR.3.4. Printed Ticket

The S&T Committee will consider a proposal that would provide an exemption to the requirement that the identification of liquid measuring devices (e.g., dispenser #1) be included on a customer's receipt. This exemption would apply to establishments with a single dispenser having multiple meters or not more than one dispenser with a single meter for each product delivered.

LPG—Liquefied Petroleum Gas and Anhydrous Ammonia Liquid-Measuring Devices

Item LPG-2 S.2.5. Zero-Setback Interlock, Stationary and Vehicle Mounted Meters, Electronic

The S&T Committee will consider a proposal to add a new nonretroactive paragraph (effective date to be determined) that requires both stationary and vehicle mounted electronic LPG and anhydrous ammonia liquid-measuring devices be designed with an automatic interlock system that must engage following completion of a delivery. The proposal specifies that the interlock system must prevent a subsequent delivery from occurring until such time the indicating elements and recording elements, if so equipped, have been reset to zero. The proposal also requires the automatic interlock system to activate within three minutes of product flow cessation and this “timeout” feature be sealable at the indicator.

HGM—Hydrogen Gas-Measuring Devices

Item HGM-6 Tentative Code Status and Preamble; A.2.(c) Exceptions; N.2 Test Medium; N.3. Test Drafts; N.4.1. Master Meter (Transfer) Standard Test; N.4.2. Gravimetric Tests; N.4.3. PVT Pressure Volume Temperature Test; N.6.1.1. Repeatability Tests; T.3. Repeatability; T.6. Tolerance—Minimum Measured Quantity (MMQ) and Appendix D. Definitions Where Applicable

The S&T Committee will consider a proposal that would remove the tentative status of the existing code and make this a permanent code. With several amendments throughout this tentative code and in the Appendix D definitions relative to these devices, the proposal states this code has been sufficiently vetted and should now be made permanent.

GMA—Grain Moisture Meters

Item GMA-2 Table S.2.5. Categories of Devices and Methods of Sealing

The S&T Committee will consider a proposal that would require (on or after the effective date—TBD) grain moisture meters approved under the National Type Evaluation Program to comply with “Category 3” sealing methods. This electronic type of sealing would require an event logger and the ability to generate a printed copy of audit trail information that is available through the device or through another on-site device.

Item GMA-3 Table T.2.1. Acceptance and Maintenance Tolerances Air Oven Method for All Grains and Oil Seeds

The S&T Committee will consider a proposal that would reduce the tolerances applied to official grain samples used as reference standards established when using the Air Oven Reference Method.

MDM—Multiple Dimension Measuring Devices

Item MDM-2 S.1.7. Minimum Measurement

The S&T Committee will consider a proposal that would amend requirement S.1.7. Minimum Measurement to also provide an exemption from that requirement for “mobile tape-based” MDMD devices. This proposal would allow measurements of less than 12 divisions made using mobile tape-based devices to be used in the calculation of charges for shipping of parcels.

NCWM L&R Committee

The following items are proposals to amend NIST Handbook 130 or NIST Handbook 133:

NIST Handbook 130, Section on Uniform Method of Sale (MOS) of Commodities

Item MOS-7 Section 2.4. Firewood and Stove Wood

The L&R Committee will address the request to extend the effective date of Section 2.4.3.(a) Packaged natural wood sold in packaged form in quantities less than 0.45 m³ (⅛ cord or 16 ft³). This could change the effective date of enforcement from 2019 until 2021.

NIST Handbook 130—Section on Uniform Open Dating Regulation (ODR)

Item ODR 1 and ODR NEW Section on Uniform Open Dating Regulation

The L&R Committee will consider a proposal under Item ODR 1 to make changes to the language within the Open Dating Regulation. The Open Dating regulation provides requirements for standardized date formats found on perishable or semi perishable packaged foods. The proposed revisions replace “Sell By” with “Use By” which provides consumers with clearer guidance to avoid spoilage or loss of value for perishable or semi perishable foods.

Under Item ODR NEW, the L&R Committee will consider a recommended proposal to remove the Open Dating Regulation in its entirety from NIST Handbook 130.

NIST Handbook 130 and NIST Handbook 133

The following items are proposals to amend NIST Handbooks 130 and 133:

Block 1 (B1) Items NIST Handbook 133, “Checking the Net Contents of Packaged Goods,” and NIST Handbook 130, Section on Uniform Packaging and Labeling Regulation (PLR), 2.8. Multiunit Package

The L&R Committee will consider a proposal for to add a test procedure in NIST Handbook 133 for addressing the total quantity declaration on multiunit or variety packages. In addition, in NIST Handbook 130, it will clarify the definition of Section 2.8. multiunit package.

Authority: 15 U.S.C. 272(b).

Kevin A. Kimball,
Chief of Staff.

[FR Doc. 2018-27600 Filed 12-20-18; 8:45 am]

BILLING CODE 3510-13-P